DEPARTMENT OF HEALTH AND HUMAN SERVICES

Notice of Availability of Medical Reserve Corps—A Guide for Local Leaders

AGENCY: Department of Health and Human Services; Office of the Secretary, Office of Public Health and Science, Office of the Surgeon General.

ACTION: Notice of availability.

SUMMARY: The Department of Health and Human Services is announcing the availability of a guidance document entitled Medical Reserve Corps—A Guide for Local Leaders. This guidance document is intended to assist communities in the establishment of local citizen volunteer Medical Reserve Corps (MRC) units under the umbrella of the Citizen Corps, USA Freedom Corps.

Medical Reserve Corps—A Guide for Local Leaders provides background on the Citizen Corps and Medical Reserve Corps, helpful information on how to plan the establishment of a local citizen volunteer MRC unit, volunteer standards, managing a local MRC unit, education and training resources, legal considerations, and other related federal programs.

ADDRESSES: Electronic versions of the guide may be accessed, downloaded, and printed at the following worldwide Web site: http://www.medicalreservecorps.gov. A printed, single copy may be obtained by submitting a written request for: Medical Reserve Corps—A Guide for Local Leaders to the Office of the Surgeon General, Room 18-66, 5600 Fishers Lane, Rockville, MD 20857. Send one self-addressed adhesive label to assist the office in processing your request.

FOR FURTHER INFORMATION CONTACT: MRC Staff, Office of the Surgeon General, 5600 Fishers Lane, Room 18-66, Rockville, MD 20857, 301-443-4000.

SUPPLEMENTARY INFORMATION: During his 2002 State of the Union address, President Bush called on all Americans to volunteer at least two years of their lives—the equivalent of 4,000 hours—to serve others. President Bush created the USA Freedom Corps to help Americans answer his call to service and to foster an American culture of service, citizenship, and responsibility.

The Medical Reserve Corps is a component of the Citizen Corps, USA Freedom Corps. The medical Reserve Corps is envisioned as a nationwide network of community-based, citizen volunteer MRC units. These units will be locally activated and directed in times of emergency to provide essential added capacity within the community, especially during the first hours of the emergency before outside assistance may arrive. Additionally, these volunteers will undertake activities to address pressing public health needs in communities throughout the year.

Dated: November 25, 2002.
Eve E. Slater,
Assistant Secretary for Health.

[FR Doc. 02-30658 Filed 12-3-02; 8:45 am]

BILLING CODE 4150-28-M